DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and the Code of Federal Regulations govern the application, processing, and disposition of petitions for modification. This Federal Register notice notifies the public that MSHA has investigated and issued a final decision on certain mine operator petitions to modify a safety standard.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (voice), barron.barbara@dol.gov (email), or 202-693-9441 (fax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2012-131-C.

FR Notice: 77 FR 42005 (7/17/2012).

Petitioner: Buchanan Minerals, LLC (formerly Blue Diamond Coal Company of Virginia), Three Gateway Center, Suite 1340, 401 Liberty Avenue, Pittsburgh, Pennsylvania 15222-1000.

Mine: Laurel Fork Mine (formerly Mine No. 1), MSHA I.D. No. 46-09084, located in McDowell County, West Virginia.

Regulation Affected: 30 CFR 75.500(d) (Permissible electric equipment).

• Docket Number: M-2012-132-C.

FR Notice: 77 FR 42006 (7/17/2012).

Petitioner: Buchanan Minerals, LLC (formerly Blue Diamond Coal Company of Virginia), Three Gateway Center, Suite 1340, 40l Liberty Avenue, Pittsburgh, Pennsylvania 15222-1000.

Mine: Laurel Fork Mine (formerly Mine No. 1), MSHA I.D. No. 46-09084, located in McDowell County, West Virginia.

Regulation Affected: 30 CFR 75.507-1(a) (Electric equipment other than power-connection points; outby the last open crosscut; return air; permissibility requirements).

• Docket Number: M-2012-133-C.

FR Notice: 77 FR 42006 (7/17/2012).

Petitioner: Buchanan Minerals, LLC (formerly Blue Diamond Coal Company of Virginia), Three Gateway Center, Suite 1340, 40l Liberty Avenue, Pittsburgh, Pennsylvania 15222-1000.

Mine: Laurel Fork Mine (formerly Mine No. 1), MSHA I.D. No. 46-09084, located in McDowell County, West Virginia.

Regulation Affected: 30 CFR 75.1002(a) (Installation of electric equipment and conductors; permissibility).

• Docket Number: M-2012-139-C.

FR Notice: 77 FR 42010 (7/17/2012).

Petitioner: The Monongalia County Coal Company (formerly Consolidation Coal Company), Three Gateway Center, Suite 1340, 40l Liberty Avenue, Pittsburgh, Pennsylvania 15222-1000.

Mine: Monongalia County Mine (formerly Blacksville No. 2 Mine), MSHA I.D. No. 46-01968, located in Monongalia County, West Virginia.

Regulation Affected: 30 CFR 75.1002(a) (Installation of electric equipment and conductors; permissibility).

• Docket Number: M-2012-144-C.

FR Notice: 77 FR 42013 (7/17/2012).

Petitioner: Marion County Coal Company (formerly Consolidation Coal Company), Three Gateway Center, Suite 1340, 40l Liberty Avenue, Pittsburgh, Pennsylvania 15222-1000.

Mine: Marion County Mine (formerly Loveridge No. 22 Mine), MSHA I.D. 46-01433, located in Marion County, West Virginia.

Regulation Affected: 30 CFR 75.507-1(a) (Electric equipment other than power-connection points; outby the last open crosscut; return air; permissibility requirements).

• Docket Number: M-2012-146-C.

FR Notice: 77 FR 42014 (7/17/2012).

Petitioner: The Marshall County Coal Company (formerly McElroy Coal Company), Three Gateway Center, Suite 1340, 40l Liberty Avenue, Pittsburgh, Pennsylvania 15222-1000.

Mine: Marshall County Mine (formerly McElroy Mine), MSHA I.D. No. 46-01437, located in Marshall County, West Virginia.

Regulation Affected: 30 CFR 75.500(d) (Permissible electric equipment).

• Docket Number: M-2012-148-C.

FR Notice: 77 FR 42016 (7/17/2012).

Petitioner: The Marshall County Coal Company (formerly McElroy Coal Company), Three Gateway Center, Suite 1340, 40l Liberty Avenue, Pittsburgh, Pennsylvania 15222-1000.

Mine: Marshall County Mine (formerly McElroy Mine), MSHA I.D. No. 46-01437, located in Marshall County, West Virginia.

Regulation Affected: 30 CFR 75.1002(a) (Installation of electric equipment and conductors; permissibility).

• Docket Number: M-2013-011-C.

FR Notice: 78 FR 13092 (2/26/2013).

Petitioner: Peabody Midwest Mining, LLC, Three Gateway Center, Suite 1500, 40l Liberty Avenue, Pittsburgh, Pennsylvania 15222-1000.

Mine: Wildcat Hills Underground Mine, MSHA I.D. No. 11-03156, located in Saline County, Illinois.

Regulation Affected: 30 CFR 75.500(d) (Permissible electric equipment).

• Docket Number: M-2014-002-C.

FR Notice: 79 FR 11137 (2/27/2014).

Petitioner: Consol Pennsylvania Coal Company, LLC, Three Gateway Center, Suite 1500, 40l Liberty Avenue, Pittsburgh, Pennsylvania 15222-1000.

Mine: Harvey Mine (formerly BMX Mine, MSHA I.D. No. 36-10045, located in Greene County, Pennsylvania.

Regulation Affected: 30 CFR 75.500(d) (Permissible electric equipment).

• Docket Number: M-2014-003-C.

FR Notice: 79 FR 11138 (2/27/2014).

Petitioner: Consol Pennsylvania Coal Company, LLC, Three Gateway Center, Suite 1500, 40l Liberty Avenue, Pittsburgh, Pennsylvania 15222-1000.

Mine: Harvey Mine (formerly BMX Mine), MSHA I.D. No. 36-10045, located in Greene County, Pennsylvania.

Regulation Affected: 30 CFR 75.507-1(a) (Electric equipment other than power-connection points; outby the last open crosscut; return air; permissibility requirements).

• Docket Number: M-2014-004-C.

FR Notice: 79 FR 11138 (2/27/2014).

Petitioner: Consol Pennsylvania Coal Company, LLC, Three Gateway Center, Suite 1500, 40l Liberty Avenue, Pittsburgh, Pennsylvania 15222-1000.

Mine: Harvey Mine (formerly BMX Mine), MSHA I.D. No. 36-10045, located in Greene County, Pennsylvania.

Regulation Affected: 30 CFR 75.1002(a) (Installation of electric equipment and conductors; permissibility).

• Docket Number: M-2017-040-C.

FR Notice: 83 FR 3030 (1/22/2018).

Petitioner: Mountain Coal Company, LLC, 5174 Hwy. 133 Somerset, Colorado 81434.

Mine: West Elk Mine, MSHA I.D. No. 05-03672, located in Gunnison County, Colorado.

Regulation Affected: 30 CFR 75.364(b)(2) (Weekly examination).

• Docket Number: M-2018-017-C.

FR Notice: 83 FR 48457 (9/25/2018).

Petitioner: Raw Coal Mining Company, Inc., 356 South College Avenue, Bluefield, Virginia 24605.

Mine: EDM No. 1 Mine, MSHA I.D. No. 46-09507, located in McDowell County, West Virginia.

Regulation Affected: 30 CFR 75.1101-1(b) (Deluge-type water spray systems).

• Docket Number: M-2016-002-M.

FR Notice: 81 FR 55487 (8/19/2016).

Petitioner: United Salt Hockley, LLC, 14002 Warren Ranch Road, Hockley, Texas 77447.

Mine: Hockley Mine, MSHA I.D. No. 41-02478, located in Harris County, Texas.

Regulation Affected: 30 CFR 57.4131 (Surface fan installations and mine openings).

• Docket Number: M-2016-003-M.

FR Notice: 81 FR 55488 (8/19/2016).

Petitioner: United Salt Hockley, LLC, 14002 Warren Ranch Road, Hockley, Texas 77447.

Mine: Hockley Mine, MSHA I.D. No. 41-02478, located in Harris County, Texas.

Regulation Affected: 30 CFR 57.4560 (Mine entrances).

• Docket Number: M-2016-004-M.

FR Notice: 81 FR 55488 (8/19/2016).

Petitioner: United Salt Hockley, LLC, 14002 Warren Ranch Road, Hockley, Texas 77447.

Mine: Hockley Mine, MSHA I.D. No. 41-02478, located in Harris County, Texas.

Regulation Affected: 30 CFR 57.4533 (Mine opening vicinity).

Sheila McConnell,
Director, Office of Standards, Regulations, and Variances.

[FR Doc. 2019-04436 Filed 3-11-19; 8:45 am]

BILLING CODE 4520-43-P